DEPARTMENT OF DEFENSE

Department of the Army

U.S. Army Science Board; Notice of Federal Advisory Committee Meeting

AGENCY: Department of the Army, DoD.

ACTION: Notice of Federal Advisory Committee meeting.

SUMMARY: The Department of Defense is publishing this notice to announce that the following Federal Advisory Committee meeting of the U.S. Army Science Board (ASB) will take place. This notice replaces the meeting notice published in the Federal Register on June 19, 2018.

DATES: Thursday, July 19, 2018. Time: 10:00 a.m. to 2:00 p.m. This meeting will be closed to the public.

ADDRESSES: Arnold and Mabel Beckman Center of the National Academies of Sciences and Engineering, 100 Academy Way, Irvine, CA 92617.

FOR FURTHER INFORMATION CONTACT: Ms. Heather J. Gerard (Ierardi), (703) 545-8652 (Voice), 571-256-3383 (Facsimile), heather.j.ierardi.civ@mail.mil (Email) or Mr. Paul Woodward at (703) 695-8344 or email: paul.j.woodward2.civ@mail.mil. Mailing address is Army Science Board, 2530 Crystal Drive, Suite 7098, Arlington, VA 22202. Website: https://asb.army.mil/.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Due to circumstances beyond the control of the Department of Defense (DoD) and the Designated Federal Officer, the meeting schedule for the previously announced meeting of the U.S. Army Science Board on July 19, 2018 was changed and the Designated Federal Officer to the U.S. Army Science Board was unable to provide sufficient public notification of this change as required by 41 CFR 102-3.150(a). Accordingly, the Advisory Committee Management Officer for the Department of Defense, pursuant to 41 CFR 102-3.150(b), waives the 15- calendar day notification requirement.

Purpose of the Meeting: The purpose of the meeting is for ASB members to review, deliberate, and vote on the findings and recommendations presented for two Fiscal Year 2018 ASB Studies.

Agenda: The ASB will present findings and recommendations for deliberation and vote on the following studies: Multi Domain Battle II. This study is classified and will be discussed from 10:00 a.m. to 11:30 a.m.; Manned Unmanned Teaming. This study is classified and will be discussed from 12:30 p.m. to 2:00 p.m.

Meeting Accessibility: Pursuant to 5 U.S.C. 552b, as amended, and 41 CFR 102-3.155, the Department of the Army has determined that the meeting shall be closed to the public. Specifically, the Administrative Assistant to the Secretary of the Army, in consultation with the Office of the Army General Counsel, has determined in writing that the public interest requires that all sessions of the committee's meeting will be closed to the public because they will be concerned with classified information and matters covered by section 5 U.S.C. 552b(c)(1).

Written Statements: Pursuant to 41 CFR 102-3.105(j) and 102-3.140, and section 10(a)(3) of the Federal Advisory Committee Act of 1972, the public or interested organizations may submit written statements to the ASB about its mission and functions. Written statements may be submitted at any time or in response to the stated agenda of a planned meeting of the ASB. All written statements must be submitted to the Designated Federal Officer (DFO) at the address listed above, and this individual will ensure that the written statements are provided to the membership for their consideration. Written statements not received at least 10 calendar days prior to the meeting may not be considered by the ASB prior to its scheduled meeting. After reviewing written comments, the DFO may choose to invite the submitter of the comments to orally present their issue during a future open meeting.

Brenda S. Bowen,
Army Federal Register Liaison Officer.

[FR Doc. 2018-14817 Filed 7-10-18; 8:45 am]

BILLING CODE 5001-03-P